DEPARTMENT OF HOUSING AND URBAN DEVELOPMENT

[Docket No. FR-5545-D-05]

Redelegation of Authority to Office of Native American Program (ONAP) Area Office Administrators and Office Directors

AGENCY: Office of the Assistant Secretary for Public and Indian Housing, HUD.

ACTION: Notice of redelegation of authority.

SUMMARY: Section 7(d) of the Department of Housing and Urban Development Act, as amended, provides authority to the Secretary to delegate functions, powers, and duties as the Secretary deems necessary. By separate notice published in today's Federal Register, the Assistant Secretary for Public and Indian Housing delegates authority, through the General Deputy Assistant Secretary, to Deputy Assistant Secretary for the Office of Native American Programs to perform program administration, oversight and enforcement responsibilities for certain of HUD's programs directed to Native Americans, and authorizes the Deputy Assistant Secretary for the Office of Native American Programs to redelegate such authority. In this redelegation of authority, the Deputy Assistant Secretary for the Office of Native American Programs (ONAP) redelegates authority for the administration, oversight and enforcement of certain PIH programs.

DATES: Effective Date: July 15, 2011

FOR FURTHER INFORMATION CONTACT: Linda Bronsdon, AICP, Program Analyst, Office of Policy, Program and Legislative Initiatives, Office of Public and Indian Housing, Department of Housing and Urban Development, 490 L'Enfant Plaza, Suite 2206, Washington, DC 20024, e-mail address Linda.K.Bronsdon@hud.gov, telephone number 202-402-3494. (This is not a toll-free number.) This number may be accessed through TTY by calling the toll-free Federal Relay Service at telephone number 1-800-877-8339.

SUPPLEMENTARY INFORMATION: The management action plan (MAP) for Public and Indian Housing (PIH) calls for the implementation of relevant redelegation to field offices to implement HUD's Strategic Goal 5 to transform the way HUD does business by delegating authority and accountability. All prior redelegations of authority between the Deputy Assistant Secretary for ONAP and ONAP officers, including the redelegations published on September 9, 2003 (68 FR 53195 through 53198), are hereby revoked and superseded by this redelegation of authority.

Section A. Authority Redelegated to Area Office Administrators and Office Directors

Authority is hereby redelegated from the Deputy Assistant Secretary for ONAP to ONAP Area Office Administrators, the Director of the Office of Grants Management, and the Director of the Office of Grants Evaluation for administration, oversight and enforcement of the following:

1. PIH programs for which assistance is provided for or on behalf of Native Americans, Indian Tribes, Alaska Native Villages, Native Hawaiians, tribal entities, tribally designated housing entities, or tribal housing resident organizations;

2. Programs authorized pursuant to the Native American Housing Assistance and Self-Determination Act of 1996 (NAHASDA) (25 U.S.C. 4101 et seq.), as amended;

3. Community Development Block Grant Program for Indian Tribes and Alaska Native Villages authorized by section 106 of the Housing and Community Development Act of 1974 (42 U.S.C. 5306);

4. Indian Home Loan Guarantee Program authorized by section 184 of the Housing and Community Development Act of 1992 (12 U.S.C. 1715z-13a);

5. Native Hawaiian Loan Guarantee Program authorized by section 184A of the Housing and Community Development Act of 1992 (12 U.S.C. 1715z-13b);

6. Rural Innovation Fund grants and Rural Housing and Economic Development grants awarded to Indian tribes and tribal entities by the Assistant Secretary for Community Planning and Development, as may be authorized by HUD appropriations acts. ONAP Area Office Administrators may issue letters of warning advising grantees of performance problems and describing corrective actions. The Office of Community Planning and Development retains enforcement authority beyond the letter of warning stage;

7. Authority to execute all necessary agreements relating to the programs listed in this section, including but not limited to grant agreements;

8. Authority of an ONAP Area Office Administrator to accept and approve a paper application under the Indian Community Development Block Grant (ICDBG) notice of funding availability (NOFA) as published on grants.gov upon a showing of good cause. Separate guidance on processing such waivers will be provided to the Area Offices;

9. Authority to approve variances above the published Total Development Costs (TDC) for Affordable Housing under NAHASDA;

10. Authority to approve model activities under NAHASDA that have previously been determined by HUD to be designed to carry out the purposes of NAHASDA;

11. Authority to review performance reports submitted by a Tribe or a tribally designated entity and issue reports based on such review;

12. Authority to enter into Voluntary Compliance Agreements with recipients under the Indian Housing Block Grant Program, Native Hawaiian Housing Block Grant Program, or Community Development Block Grant Program for Indian Tribes and Alaska Native Villages prior to the issuance of a Notice of Intent to Impose Remedies; and

13. Authority to waive the applicability of the Indian Housing Plan requirements under section 101(b)(1) of NAHASDA in whole or in part for a period of not more than 90 days in accordance with the waiver authority provided in section 101(b)(2) of the Act, upon a determination that the recipient's failure to comply is due to exigent circumstances beyond its control.

Section B. Authority Redelegated to Director of Office of Loan Guarantee

Authority is redelegated from the Deputy Assistant Secretary for ONAP to the Director of the Office of Loan Guarantee for administration, oversight and enforcement of the following:

1. Indian Home Loan Guarantee Program authorized by section 184 of the Housing and Community Development Act of 1992 (12 U.S.C. 1715z-13a);

2. Native Hawaiian Loan Guarantee Program authorized by section 184A of the Housing and Community Development Act of 1992 (12 U.S.C. 1715z-13b); and

3. Title VI of NAHASDA (25 U.S.C. 4191-4195).

Section C. Authority Excepted

This redelegation of authority does not include any power or authority under law that specifically requires the action of either the Secretary of HUD, the Assistant Secretary of PIH, or the General Deputy Assistant Secretary. Authority excepted includes the authority to:

1. Issue or waive regulations. ONAP Area Office Administrators may not exercise this authority;

2. Issue notices to clarify regulations;

3. Issue notices of funding availability (NOFAs), handbooks, notices and other HUD policy directives;

4. Impose remedies for substantial noncompliance with the requirements of the NAHASDA (25 U.S.C. 4101 et seq.) and/or its implementing regulations; and

5. Declare a failure to comply with the regulations of the Community Development Block Grants for Indian Tribes and Alaska Native Villages.

Section D. Exceptions to Authority of Deputy Assistant Secretary for ONAP To Redelegate

Some authority may not be redelegated from the Deputy Assistant Secretary for ONAP to an ONAP Area Office Administrator or other ranking program official. The power and authority to take the following actions is not redelegated to an ONAP Area Office Administrator or other ranking program official and remains with the Deputy Assistant Secretary for ONAP:

1. Offer new legislative proposals to Congress;

2. Allocate or reallocate funding among area offices;

3. Approve grant extensions or grant requirements, unless specifically or otherwise noted; and

4. Issue a Notice of Intent to Impose Remedies under the Indian Housing Block Grant Program, Native Hawaiian Housing Block Grant Program, or Community Development Block Grant Program for Indian Tribes and Alaska Native Villages.

Section E. Authority To Further Redelegate

In accordance with a written redelegation of authority, ONAP Area Office Administrators or other ranking program officials may further redelegate specific authority. Other redelegated authority does not supersede the authority of a Deputy Assistant Secretary as designee of the Assistant Secretary for PIH.

Section F. Authority Superseded

All prior redelegations of authority between the Deputy Assistant Secretary for ONAP and ONAP officers are hereby revoked and superseded by this redelegation of authority, including the redelegations published on September 9, 2003 (68 FR 53195 through 53198).

Section G. Actions Ratified

Actions, including limited denials of participation (LDP), but not including actions that violate NAHASDA or federal regulations, previously taken by ONAP Area Office Administrators or other ranking program officials through the effective date of this redelegation with respect to programs and matters listed in this redelegation of authority, are hereby ratified.

Section H. Consultation and Coordination With the General Counsel

The General Counsel shall consult and advise the Assistant Secretary for PIH, the General Deputy Assistant Secretary, Deputy Assistant Secretary for Native American Programs, Area Office Administrators and Officer Directors, and all others covered by this redelegation, as required and when requested, and shall enter into such protocols as administratively agreed to by the General Counsel and the Assistant Secretary for PIH or the General Deputy Assistant Secretary. This consolidated delegation of authority is to be exercised consistently with the delegation from the Secretary to the General Counsel.

Authority: Section 7 (d) of the Department of Housing and Urban Development Act, as amended, (42 U.S.C. 3535(d).

Dated: July 15, 2011.
Rodger J. Boyd,
Deputy Assistant Secretary, Office of Native American Programs.

[FR Doc. 2011-19730 Filed 8-3-11; 8:45 am]

BILLING CODE 4210-67-P